DEPARTMENT OF HEALTH AND HUMAN SERVICES

Announcement of Meetings of the Secretary's Advisory Committee on National Health Promotion and Disease Prevention Objectives for 2020; Correction

AGENCY: Department of Health and Human Services, Office of the Secretary, Office of Public Health and Science, Office of Disease Prevention and Health Promotion.

ACTION: Notice; correction.

SUMMARY: The Department of Health and Human Services published an announcement in the Federal Register on March 10, 2009, announcing a May 15, 2009 meeting of the Secretary's Advisory Committee on National Health Promotion and Disease Prevention Objectives for 2020. The announcement incorrectly noted that this meeting would take place from 1 p.m. to 3 p.m. Eastern Daylight Time (EDT).

FOR FURTHER INFORMATION CONTACT: Emmeline Ochiai, Designated Federal Officer, Secretary's Advisory Committee on National Health Promotion and Disease Prevention Objectives for 2020, U.S. Department of Health and Human Services, Office of Public Health and Science, Office of Disease Prevention and Health Promotion, 1101 Wootton Parkway, Room LL-100, Rockville, MD 20852, (240) 453-8259 (telephone), (240) 453-8281 (fax). Additional information is available on the Internet at http://www.healthypeople.gov.

Correction

In the Federal Register of March 10, 2009, Vol. 74, No. 45, on page 10250, in the 3rd column, correct the DATES caption to read:

The Committee will meet on the Internet at the following times: March 26, 2009, from 12 p.m. to 2 p.m. Eastern Daylight Time (EDT), April 20, 2009, 12 p.m. to 2 p.m. EDT; and May 15, 2009, 2 p.m. to 4 p.m. EDT.

Dated: April 6, 2009.
Sarah R. Linde-Feucht,
CAPT, U.S. Public Health Service, Deputy Director, Office of Disease Prevention and Health Promotion.

[FR Doc. E9-8246 Filed 4-9-09; 8:45 am]

BILLING CODE 4150-32-P